DEPARTMENT OF TRANSPORTATION

Federal Aviation Administration

14 CFR Part 39

[Docket No. FAA-2006-23954; Directorate Identifier 2005-NE-54-AD; Amendment 39-15202; AD 2007-19-11]

RIN 2120-AA64

Airworthiness Directives; Turbomeca S.A. Artouste III B, Artouste III B1, and Artouste III D Turboshaft Engines; Correction

AGENCY: Federal Aviation Administration (FAA), Department of Transportation (DOT).

ACTION: Final rule; correction.

SUMMARY: The FAA is correcting airworthiness directive (AD) 2007-19-11. That AD applies to Turbomeca S.A. Artouste III B, Artouste III B1, and Artouste III D turboshaft engines. We published that AD in the Federal Register on September 21, 2007 (72 FR 53937). The AD number of the superseded AD, is incorrect in two places in the preamble, and in one place in paragraph (b). This document corrects those AD numbers. In all other respects, the original document remains the same.

DATES: Effective Date: Effective October 9, 2007.

FOR FURTHER INFORMATION CONTACT: Christopher Spinney, Aerospace Engineer, Engine Certification Office, FAA, Engine and Propeller Directorate, 12 New England Executive Park, Burlington, MA 01803; telephone (781) 238-7175; fax (781) 238-7199.

SUPPLEMENTARY INFORMATION: On September 21, 2007 (72 FR 53937), we published a final rule AD, FR Doc. E7-18484, in the Federal Register. That AD applies to Turbomeca S.A. Artouste III B, Artouste III B1, and Artouste III D turboshaft engines. We need to make the following corrections:

On page 53937, in the second column, in the Supplementary Information paragraph, in the third line, “2005-04-15” is corrected to read “2006-04-15”.

On page 53938, in the first column, in the second line, “2005-04-15” is corrected to read “2006-04-15”.

§ 39.13 [Corrected]

On page 53938, in the third column, in paragraph (b), in the first line, “2005-04-15” is corrected to read “2006-04-15”.

Issued in Burlington, Massachusetts, on October 1, 2007.
Peter A. White,
Acting Manager, Engine and Propeller Directorate, Aircraft Certification Service.

[FR Doc. E7-19686 Filed 10-5-07; 8:45 am]

BILLING CODE 4910-13-P